SMALL BUSINESS ADMINISTRATION

[Declaration of Disaster #3585]

State of Indiana (Amendment #1)

In accordance with a notice received from the Department of Homeland Security—Federal Emergency Management Agency, effective June 11, 2004, the above numbered declaration is hereby amended to include Benton, Boone, Carroll, Cass, Clinton, Dubois, Floyd, Fountain, Fulton, Gibson, Grant, Hamilton, Hancock, Harrison, Hendricks, Howard, Jackson, Jefferson, Johnson, Lawrence, Martin, Montgomery, Morgan, Orange, Perry, Pike, Scott, Shelby, Spencer, Tippecanoe, Vanderburgh, Wabash, Warren, Warrick and White Counties as disaster areas due to damages caused by severe storms, tornadoes, and flooding occurring on May 27, 2004, and continuing.

In addition, applications for economic injury loans from small businesses located in the contiguous counties of Bartholomew, Blackford, Brown, Daviess, Decatur, Delaware, Greene, Henry, Huntington, Jasper, Jennings, Knox, Kosciusko, Madison, Marshall, Monroe, Newton, Owen, Parke, Posey, Pulaski, Putnam, Ripley, Rush, Starke, Switzerland, Tipton, Vermillion, Wells and Whitley in the State of Indiana; Iroquois, Vermilion, Wabash, and White Counties in the State of Illinois; and Breckinridge, Carroll, Daviess, Hancock, Hardin, and Henderson Counties in the Commonwealth of Kentucky may be filed until the specified date at the previously designated location. All other counties contiguous to the above named primary counties have been previously declared.

The number assigned to this disaster for economic injury is 9ZJ200 for Illinois.

All other information remains the same, i.e., the deadline for filing applications for physical damage is August 2, 2004, and for economic injury the deadline is March 3, 2005.

(Catalog of Federal Domestic Assistance Program Nos. 59002 and 59008)

Dated: June 14, 2004.
S. George Camp,
Acting Associate Administrator for Disaster Assistance.

[FR Doc. 04-13781 Filed 6-17-04; 8:45 am]

BILLING CODE 8025-01-P